DEPARTMENT OF HOUSING AND URBAN DEVELOPMENT

[Docket No. FR-6308-N-04]

Announcement of the Housing Counseling Federal Advisory Committee; Notice of Public Meeting

AGENCY: Office of the Assistant Secretary for Housing—Federal Housing Commissioner, Department of Housing and Urban Development (HUD).

ACTION: Notice of Housing Counseling Federal Advisory Committee public meeting.

SUMMARY: This gives notice of a Housing Counseling Federal Advisory Committee (HCFAC) meeting and sets forth the proposed agenda. The HCFAC meeting will be held on Tuesday, September 27, 2022. The meeting is open to the public and is accessible to individuals with disabilities.

DATES: The virtual meeting will be held on Tuesday, September 27, 2022, starting at 1 p.m. Eastern Daylight Time (EDT) via teleconference.

FOR FURTHER INFORMATION CONTACT: Virginia F. Holman, Housing Program Specialist, Office of Housing Counseling, U.S. Department of Housing and Urban Development, 600 East Broad Street, Richmond VA 23219; telephone number 540-894-7790 (this is not a toll-free number); email virginia.f.holman@hud.gov. Individuals with speech or hearing impairments may access this number through TTY by calling the toll-free Federal Relay Service at (800) 8778339. Individuals may also email HCFACCommittee@hud.gov.

SUPPLEMENTARY INFORMATION: HUD is convening the virtual meeting of the HCFAC on Tuesday, September 27, 2022, from 1 p.m. to 4 p.m. EDT. The meeting will be held via ZOOM. This meeting notice is provided in accordance with the Federal Advisory Committee Act, 5. U.S.C. App. 10(a)(2).

Draft Agenda—Housing Counseling Federal Advisory Committee Meeting Tuesday September 27, 2022

I. Welcome

II. Advisory Committee Discussion

III. Public Comment

IV. Next Steps

V. Adjourn

Registration

The public is invited to attend this one-day virtual meeting, using ZOOM Advance registration is required to attend. To register, please visit https://us06web.zoom.us/webinar/register/WN_KXlIQv0QSNKxj3-F6Mrp4A to complete your registration no later than September 21, 2022. Registration will be closed for the event on September 21, 2022. If you have any questions about registration, please email HCFACCommittee@ajantaconsulting.com.

After submitting the registration form above, you will receive registration confirmation with the meeting link and passcode needed to attend. Individuals with speech or hearing impairments may follow the discussion by first calling the toll-free Federal Relay Service (FRS): (800) 977-8339 and providing the FRS operator with the conference call number that will be provided in the registration confirmation.

Public Comments

Members of the public will have an opportunity to provide oral and written comments relative to agenda topics for the HCFAC's consideration. Your registration confirmation will also explain the process for speaking.

Available time for public comments will be limited to ensure pertinent HCFAC business is completed. The amount of time allotted to each person will be limited to two minutes and will be allocated on a first-come first-served basis by HUD. Written comments can be provided on the registration form no later than September 21, 2022. Please note, written comments submitted will not be read during the meeting. The HCFAC will not respond to individual written or oral statements during the meeting; but it will take all public comments into account in its deliberations.

Meeting Records

Records and documents discussed during the meeting as well as other information about the work of the HCFAC, will be available for public viewing as they become available at: https://www.facadatabase.gov/FACA/apex/FACAPublicCommittee?id=a10t0000001gzvQAAQ.

Information on the Committee is also available on hud.gov at https://www.hud.gov/program_offices/housing/sfh/hcc and on HUD Exchange at https://www.hudexchange.info/programs/housing-counseling/federal-advisory-committee/.

Julia R. Gordon,
Assistant Secretary for Housing—FHA Commissioner.

[FR Doc. 2022-17859 Filed 8-18-22; 8:45 am]

BILLING CODE 4210-67-P